DEPARTMENT OF ENERGY

Federal Energy Regulatory Commission

[Docket No. AD07-12-000]

Reliability Standard Compliance and Enforcement in Regions With Independent System Operators and Regional Transmission Organizations; Notice of Technical Conference

June 15, 2007.

The staff of the Federal Energy Regulatory Commission will hold a technical conference in the above-referenced proceeding on September 18, 2007, at the Federal Energy Regulatory Commission, 888 First Street, NE., Washington DC. It will be held in the Commission Meeting Room (Room 2C) starting at 9:30 a.m. ET. The conference will explore issues associated with cost recovery of penalties for Reliability Standard violations assessed against Independent System Operators and Regional Transmission Organizations, as set forth in Midwest Independent Transmission System Operator, Inc., 119 FERC ¶ 61,222 (May 31, 2007) in Docket Nos. ER07-701-000 and AD07-12-000.

This notice is to alert you to the date of the conference. Further notices will define the issues to be explored in greater detail. The conference will be transcribed and Web cast. All interested parties are invited, and there is no registration fee to attend.

Questions about the conference should be directed to Don Lekang by e-mail at donald.lekang@ferc.gov or by phone at 202-502-8127.

Kimberly D. Bose,
Secretary.

[FR Doc. E7-12183 Filed 6-22-07; 8:45 am]

BILLING CODE 6717-01-P